DEPARTMENT OF COMMERCE

International Trade Administration

[A-469-814]

Chlorinated Isocyanurates From Spain: Final Results of Antidumping Duty Administrative Review; 2011-2012

AGENCY: Enforcement and Compliance, formerly Import Administration, International Trade Administration, U.S. Department of Commerce.

SUMMARY: The Department of Commerce (“the Department”) published its preliminary results of the administrative review of the antidumping duty order on chlorinated isocyanurates (chlorinated isos) from Spain.¹ The period of review (“POR”) is June 1, 2011, through May 31, 2012. We gave interested parties an opportunity to comment on the Preliminary Results. Based upon our analysis of the comments received, we made no changes to the margin calculations for these final results and continue to determine that Ercros S.A. (Ercros) ² did not make sales below normal value. The final dumping margin is listed below in the “Final Results of Review” section of this notice.

¹ See Chlorinated Isocyanurates from Spain: Preliminary Results of the Antidumping Duty Administrative Review; 2011-12, 78 FR 41367 (July 10, 2013) (“Preliminary Results”)

² Ercros formerly exported the subject merchandise through its 100 percent-owned subsidiary Aragonesas Industrias y Energia S.A. (Aragonesas). In 2010, Aragonesas was merged with Ercros.

DATES: Effective Date: December 3, 2013.

FOR FURTHER INFORMATION CONTACT: Sean Carey or Gene Calvert at (202) 482-3964, or (202) 482-3586, respectively; AD/CVD Operations, Office VII, Enforcement and Compliance, International Trade Administration, U.S. Department of Commerce, 14th Street and Constitution Avenue NW., Washington, DC 20230.

SUPPLEMENTARY INFORMATION:

Background

On July 10, 2013, the Department published the Preliminary Results.³ On August 9, 2013, Ercros submitted a written request to reserve its right to participate in a hearing if Clearon Corp. and Occidental Chemical Corporation, the petitioners, requested one. Petitioners made no request for a hearing.

³ See Preliminary Results.

As explained in the memorandum from the Assistant Secretary for Enforcement and Compliance, the Department has exercised its discretion to toll deadlines for the duration of the closure of the Federal Government from October 1, through October 16, 2013.⁴ Therefore, all deadlines in this segment of the proceeding have been extended by 16 days. If the new deadline falls on a non-business day, in accordance with the Department's practice, the deadline will become the next business day. The revised deadline for the final results of this review is now November 25, 2013.

⁴ See Memorandum for the Record from Paul Piquado, Assistant Secretary for the Enforcement and Compliance, “Deadlines Affected by the Shutdown of the Federal Government” (October 18, 2013).

Scope of the Order

The merchandise subject to the order is chlorinated isocyanurates. Chlorinated isocyanurates are derivatives of cynauric acid, described as chlorinated s-triazine triones. There are three primary chemical compositions of chlorinated isocyanurates: (1) trichloroisocyanuric acid (Cl3(NCO)3), (2) sodium dichloroisocyanurate (dihydrate) (NaCl2(NCO)3 2H2O), and (3) sodium dichloroisocyanurate (anhydrous) (NaCl2(NCO)3). Chlorinated isocyanurates are available in powder, granular, and tableted forms. The order covers all chlorinated isocyanurates. Chlorinated isocyanurates are currently classifiable under subheadings 2933.69.6015, 2933.69.6021, and 2933.69.6050 of the Harmonized Tariff Schedule of the United States (HTSUS). A full description of the scope of the order is contained in the memorandum from Christian Marsh, Deputy Assistant Secretary for Antidumping and Countervailing Duty Operations, to Paul Piquado, Assistant Secretary for Import Administration, “Decision Memorandum for Final Results of Antidumping Duty Administrative Review: Chlorinated Isocyanurates from Spain; 2011-2012” (“Issues and Decision Memorandum”), which is issued concurrent with and hereby adopted by this notice.

Analysis of Comments Received

All issues raised in the case and rebuttal briefs by parties are addressed in the Issues and Decision Memorandum. A list of the issues which parties raised is attached to this notice as an Appendix. The Issues and Decision Memorandum is a public document and is on file in the Central Records Unit (“CRU”), Room 7046 of the main Department of Commerce building, as well as electronically via Enforcement and Compliance's Antidumping and Countervailing Duty Centralized Electronic Service System (“IA ACCESS”). IA ACCESS is available to registered users at http://iaaccess.trade.gov and in the CRU. In addition, a complete version of the Issues and Decision Memorandum can be accessed directly on the internet at http://www.trade.gov/enforcement. The signed Issues and Decision Memorandum and the electronic versions of the Issues and Decision Memorandum are identical in content.

Changes Since the Preliminary Results

Based on a review of the record and comments received from interested parties regarding our Preliminary Results, we have made no changes to our calculations. Therefore, the final results do not differ from the preliminary results.⁵

⁵ See Issues and Decision Memorandum.

Final Results of Review

We determine that Ercros' weighted-average dumping margin is de minimis (i.e., less than 0.5 percent) for entries of subject merchandise that were produced and/or exported by Ercros and that entered, or were withdrawn from warehouse, for consumption during the period June 1, 2011, through May 31, 2012.

Assessment Rates

Pursuant to 19 CFR 351.212(b)(1), the Department shall determine, and U.S. Customs and Border Protection (CBP) shall assess, antidumping duties on all appropriate entries in accordance with the final results of this review. The Department intends to issue appropriate assessment instructions for the respondent subject to this review directly to CBP 15 days after the date of publication of the final results of this review. Since Ercros' weighted-average dumping margin is zero or de minimis, we will instruct CBP to liquidate the appropriate entries without regard to antidumping duties.

The Department clarified its “automatic assessment” regulation on May 6, 2003.⁶ This clarification will apply to entries of subject merchandise during the period of review produced by Ercros for which these companies did not know that the merchandise was destined for the United States. In such instances, we will instruct CBP to liquidate un-reviewed entries at the all-others rate during the POR if there is no rate for the intermediate company(ies) involved in the transaction. See Assessment Policy Notice for a full discussion of this clarification.

⁶ For a full discussion of this clarification, see Antidumping and Countervailing Duty Proceedings: Assessment of Antidumping Duties, 68 FR 23954 (May 6, 2003) (Assessment Policy Notice).

Cash Deposit Requirements

The following cash deposit requirements will be effective for all shipments of the subject merchandise entered, or withdrawn from warehouse, for consumption on or after the publication date of the final results of this administrative review, as provided by section 751(a)(2)(C) of the Tariff Act of 1930, as amended (“the Act”): (1) The cash deposit rate for Ercros will be equal to the weighted-average dumping margin established in the final results of this review, except if the rate is de minimis within the meaning of 19 CFR 351.106(c)(1), in which case the cash deposit rate will be zero; (2) for other manufacturers and exporters covered in a prior segment of the proceeding, the cash deposit rate will continue to be the company-specific rate published for the most recently completed segment of this proceeding in which that manufacturer or exporter participated; (3) if the exporter is not a firm covered in this review, a prior review, or the original less-than-fair-value (LTFV) investigation, but the manufacturer is, the cash deposit rate will be the rate established for the most recently completed segment of this proceeding for the manufacturer of subject merchandise; and (4) the cash deposit rate for all other manufacturers or exporters will continue to be 24.83 percent, the all-others rate established in the LTFV investigation.⁷ These deposit requirements, when imposed, shall remain in effect until further notice.

⁷ See Chlorinated Isocyanurates From Spain: Notice of Final Determination of Sales at Less Than Fair Value, 70 FR 24506 (May 10, 2005).

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This administrative review and notice are published in accordance with sections 751(a)(1) and 777(i)(1) of the Act.

Dated: November 25, 2013.
Paul Piquado,
Assistant Secretary for Enforcement and Compliance.

Appendix

List of Topics Discussed in the Issues and Decision Memorandum

1. Whether Ercros Sales Were Bona Fide

2. Adjustment to U.S. Prices for U.S. Duty Costs

3. Distinction Between Sales to Distributors and Industrial Users

[FR Doc. 2013-28945 Filed 12-2-13; 8:45 am]

BILLING CODE 3510-DS-P